NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by September 2, 2010. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application No. 2011-009

1. Applicant: Sam Feola, Director, Raytheon Polar Services Company, 7400 South Tucson Way, Centennaial, CO 80112.

Activity for Which Permit is Requested: Take. The applicant plans herd or remove seals and seabirds who venture onto McMurdo Station roads, airstrips and ice pier when they pose operational safety concerns as well as potential harm to the animals. Herding and removal activities will be conducted in accordance with “Wildlife Removal” standard operating procedures, which includes notification to station authorities and reporting such herding and removal activities to the Permit Office.

Location: McMurdo Station roads, airstrips, and ice pier.

Dates: September 1, 2010 to August 31, 2015.

Permit Application No. 2011-010

2. Applicant: Sam Feola, Director, Raytheon Polar Services Company, 7400 South Tucson Way, Centennial, CO 80112.

Activity for Which Permit is Requested: Take. The applicant plans herd or remove seals and seabirds who venture onto the Palmer Station pier and other operational areas when they pose operational safety concerns as well as potential harm to the animals. Herding and removal activities will be conducted by station management and science personnel in a non-lethal and humane manner in order to cause as little disturbance as possible.

Location: Palmer Station pier and operational areas.

Dates September 1, 2010 to August 31, 2015.

Permit Application No. 2011-011

3. Applicant: Sam Feola, Director, Raytheon Polar Services Company, 7400 South Tucson Way, Centennial, CO 80112.

Activity for Which Permit is Requested: Enter Antarctic Specially Protected Area. The applicant plans to enter Avian Island (ASPA 117) in support of research work conducted at the NOAA marine mammal research facility. Activities to be performed are the movement of personnel and supplies from ship to shore via zodiac or small boat, opening and closing tasks for the research facilities on shore, and maintenance and servicing of on-shore facilities and equipment.

Location: Avian Island (ASPA 117).

Dates: September 1, 2010 to August 31, 2015.

Permit Application No. 2011-012

4. Applicant: Sam Feola, Director, Raytheon Polar Services Company, 7400 South Tucson Way, Centennial, CO 80112.

Activity for Which Permit is Requested: Enter Antarctic Specially Protected Area. The applicant plans to enter Cape Shirreff (ASPA 149) in support of research work conducted at the NOAA marine mammal research facility. Activities to be performed are the movement of personnel and supplies from ship to shore via zodiac or small boat, opening and closing tasks for the research facilities on shore, and maintenance and servicing of on-shore facilities and equipment.

Location Cape Shirreff (ASPA 149).

Dates September 1, 2010 to August 31, 2015.

Permit Application No. 2011-013

5. Applicant: Sam Feola, Director, Raytheon Polar Services Company, 7400 South Tucson Way, Centennial, CO 80112.

Activity for Which Permit is Requested: Enter Antarctic Specially Protected Area. The applicant plans to enter “Copacabana” research site on the Western Shore of Admiralty Bay, King George Island (ASPA 128) in support of research work conducted at the USAP research facility. Activities to be performed are the movement of personnel and supplies from ship to shore via zodiac or small boat, opening and closing tasks for the research facilities on shore, and maintenance and servicing of on-shore facilities and equipment.

Location: Cape Shirreff (ASPA 128).

Dates: September 1, 2010 to August 31, 2015.

Permit Application No. 2011-014

6. Applicant: Sam Feola, Director, Raytheon Polar Services Company, 7400 South Tucson Way, Centennial, CO 80112.

Activity for Which Permit is Requested: Enter Antarctic Specially Protected Area. The applicant plans to enter Beaufort Island (ASPA 105), Cape Royds (ASPA 121), Arrival Heights (ASPA 122), Cape Crozier (ASPA 124), Tramway Ridge (ASPA 130), Canada Glacier (ASPA 131), Linnaeus Terrance (ASPA 138), and Botany Bay (ASPA 154) to review the sites' management plans and verify that the values being protected are maintained. Article 6.3 of Annex V to the Madrid Protocol requires “A review of the (ASPA) Management Plan shall be initiated at least every five years. The plans will be updated as necessary.” The USAP Environmental team members will enter the sites in anticipation of the 5 year ASPA review, or to address any environmental concern or potential environmental release within the ASPA.

Location: Beaufort Island (ASPA 105), Cape Royds (ASPA 121), Arrival Heights (ASPA 122), Cape Crozier (ASPA 124), Tramway Ridge (ASPA 130), Canada Glacier (ASPA 131), Linnaeus Terrance (ASPA 138), and Botany Bay (ASPA 154)

Dates: September 1, 2010 to August 31, 2015.

Permit Application No. 2011-015

7 Applicant: Sam Feola, Director, Raytheon Polar Services Company, 7400 South Tucson Way, Centennial, CO 80112.

Activity for Which Permit is Requested: Enter Antarctic Specially Protected Area. The applicant plans to enter Litchfield Island (ASPA 113) to remove (for inspection and resupply) the survival cache located on Litchfield Island, and to return the cache. This cache is a requirement for boating safety purposes. Additionally, ongoing assessment of the ASPA notification signs at the three primary landing sites on the island is required.

Location: Litchfield Island (ASPA 113).

Dates: September 1, 2010 to August 31, 2015.

Nadene G. Kennedy,
Permit Officer, Office of Polar Programs.

[FR Doc. 2010-19028 Filed 8-2-10; 8:45 am]

BILLING CODE 7555-01-P